DEPARTMENT OF THE INTERIOR

National Park Service

[NPS-AKRO-WRST-20382; PPMRSNR1Y.Y00000]

Notice of Availability for Public Review of Mining Plan of Operations for Claims Within Wrangell-St. Elias National Park and Preserve, Alaska

AGENCY: National Park Service, Interior.

ACTION: Notice of availability.

SUMMARY: In accordance with provisions of 36 CFR 9.17, the National Park Service (NPS) is hereby giving notice that Vern Fiehler has filed a proposed plan to conduct mining operations on the Gold Run claims, a group of unpatented placer claims in the Chisana Mining District near Chisana, Alaska. The claims are located within the boundaries of Wrangell-St. Elias National Park and Preserve.

ADDRESSES: This plan of operation is available for inspection during normal business hours at the following locations:

Office of the Superintendent, Wrangell-St. Elias National Park and Preserve, Headquarters Mile 106.5 Richardson Highway, Copper Center, Alaska 99573.

National Park Service Alaska Regional Office—Natural Resources Division, 240 West 5th Avenue, Anchorage, AK 99501.

FOR FURTHER INFORMATION CONTACT: Eric Veach, Acting Superintendent, at (907) 822-7202, eric_veach@nps.gov, Michael Loso, Physical Scientist, at (907) 822-7247, michael_loso@npsgov.

SUPPLEMENTARY INFORMATION: The regulations at 36 CFR part 9, subpart A implement 54 U.S.C. 100731-737, which was originally enacted as the Mining in the Parks Act. These regulations are applicable to all mineral activities in park units related to unpatented and patented mining claims under the Mining Law of 1872 (30 U.S.C. 21 et seq.). Under the regulations, mining claim operations in parks require NPS approval of a plan of operations. The plan of operations serves as the blueprint for the operation.

The claim owner, Vern Fiehler, has submitted a proposed plan of operations. The Regional Director is currently evaluating the proposed plan under the standards of 36 CFR 9.10. If the plan meets the standards, the NPS may approve the plan as submitted, or approve the plan with terms and conditions. Under 36 CFR 9.17(a), the NPS is required to publish a notice in the Federal Register advising the availability of the proposed plan for public review.

Dated: April 6, 2016.
Herbert C. Frost,
Regional Director, Alaska.

[FR Doc. 2016-08697 Filed 4-14-16; 8:45 am]

BILLING CODE 4312-EF-P